DEPARTMENT OF TRANSPORTATION

Office of the Secretary

[Docket No. DOT-OST-2025-1360]

Privacy Act of 1974; System of Records

AGENCY: Office of the Departmental Chief Information Officer, Office of the Secretary of Transportation, Department of Transportation (DOT).

ACTION: Notice of a modified system of records.

SUMMARY: In accordance with the Privacy Act of 1974, the Department of Transportation (DOT), Office of the Secretary (OST) proposes to rename, update, and reissue an existing system of records notice currently titled “DOT/ALL 8, Parking and Transit Benefit System.” The name of this system of records notice will be changed to “DOT/ALL 8, Parking and Transit Benefit Records.” The modified system of records notice (hereafter referred to as “Notice” or “SORN”) collects and maintains records to oversee and administer the Transportation Subsidy Program (TSP) for DOT and other participating federal agencies.

DATES: Submit comments on or before February 19, 2026. The Department may publish an amended Systems of Records Notice considering any comments received. This modified system will be effective immediately upon publication. The routine uses will be effective February 19, 2026.

ADDRESSES: You may submit comments, identified by docket number DOT-OST-2025-1360 by one of the following methods:

• Federal e-Rulemaking Portal: https://www.regulations.gov. Follow the instructions for submitting comments.

• Mail: Department of Transportation Docket Management, Room W12-140, 1200 New Jersey Ave. SE, Washington, DC 20590.

• Hand Delivery or Courier: West Building Ground Floor, Room W12-140, 1200 New Jersey Ave. SE, between 9 a.m. and 5 p.m. ET, Monday through Friday, except Federal holidays.

• Instructions: You must include the agency name and docket number DOT-OST-2025-1360.

• Instructions: You must include the agency name and docket number DOT-OST-2025-1360. All comments received will be posted without change to https://www.regulations.gov, including any personal information provided. You may review the Department of Transportation's complete Privacy Act statement in the Federal Register published on April 11, 2000 (65 FR 19477-78).

Privacy Act: Anyone is able to search the electronic form of all comments received in any of our dockets by the name of the individual submitting the comment (or signing the comment, if submitted on behalf of an association, business, labor union, etc.).

Docket: For access to the docket to read background documents or comments received, go to https://www.regulations.gov or to the street address listed above. Follow the online instructions for accessing the docket.

FOR FURTHER INFORMATION CONTACT: For questions, please contact Karyn Gorman, Departmental Chief Privacy Officer, Privacy Office, Department of Transportation, Washington DC 20590; email: privacy@dot.gov; or 202—603—8321.

SUPPLEMENTARY INFORMATION:

Notice Updates

This Notice includes both substantive changes and non-substantive changes to the previously published Notice. The substantive changes have been made to system name, system location, system manager(s), categories of records in the system, routine uses of records maintained in the system, policies and practices for storage of records, and policies and practices for retention and disposal of records. Non-substantive changes have been made to record access procedures as well as revisions to align with the requirements of Office of Management and Budget (OMB) Circular No. A-108 and to ensure consistency with other Notices issued by the Department of Transportation.

Background

In accordance with the Privacy Act of 1974, 5 U.S.C. 552a, the Department of Transportation proposes to modify and reissue a Department of Transportation system of records notice currently titled “DOT/ALL 8, Parking and Transit Benefit System.” This system of records covers records collected and maintained to oversee and administer the Transportation Subsidy Program (TSP) for DOT and other participating federal agencies. DOT is updating this SORN to make the following substantive changes:

1. System Name: Updated to reflect the records in the notice, not the name of the information technology (IT) system.

2. System location: Updated to include change to FedRAMP-authorized third-party cloud environment.

3. System Manager: Updated to reflect the change in system owner and addresses to provide current address.

4. Categories of Records in the System: Updated to reflect that Social Security Numbers (SSN) are no longer collected or used as an employee identification number.

5. Routine uses: This notice modifies the routine uses by adding and updating the specific DOT General Routine Uses that apply to this system. A routine use was added for Treasury's Do Not Pay Working System to support Executive Order 14249, Protecting America's Bank Account Against Fraud, Waste, and Abuse, and align with recent requirements specified in the August 20, 2025 OMB Memorandum M-25-32, Preventing Improper Payments and Protecting Privacy Through Do Not Pay.

6. Policies and Practices for storage: This Notice updates the policy for storage because hard copies are no longer maintained.

7. Policies and practices for retention and disposal of records: This Notice updates the policies and practices for the retention and disposal of records to reflect the applicable National Archives and Records Administration (NARA) records schedule. The previous NARA record schedule no longer applies to the records in the system.

DOT is updating this SORN to make the following non-substantive changes:

8. Purpose: the purpose of the system remains the same, but language has been updated from previously published SORN.

9. Record access: This Notice updates the record access procedures to reflect signatures on signed requests for records must either be notarized or accompanied by a statement made under penalty of perjury in compliance with 28 U.S.C. 1746.

Privacy Act

The Privacy Act (5 U.S.C. 552a) governs how the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Record the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), a report on the establishment of this System of Records has been sent to Congress and to the Office of Management and Budget.

SYSTEM NAME AND NUMBER:

DOT/ALL 8, Parking and Transit Benefit Records

SECURITY CLASSIFICATION:

Unclassified.

SYSTEM LOCATION:

Records are maintained in a FedRAMP-authorized third-party cloud environment. The contracts are maintained by U.S. DOT at 1200 New Jersey Avenue SE, Washington, DC 20590.

SYSTEM MANAGER(S):

U.S. DOT TRANServe, Associate Director/System Owner 1200 New Jersey Ave. SE suite W12-101 TRANServe Washington, DC 20590.

FAA Headquarters' Facilities Management Division, 800 Independence Avenue SW, 20591.

AUTHORITY FOR MAINTENANCE OF THE SYSTEM:

5 U.S.C. 7905; 26 U.S.C. 132; 26 CFR 132f; and Executive Order 13150.

PURPOSE(S) OF THE SYSTEM:

The purpose of this system is to oversee and administer the Transportation Subsidy Program, which supports federal employees in commuting to work by public transit, carpools, vanpools, bicycles, or parking at DOT headquarters. The Department of Transportation uses the Parking and Transportation Benefits System to manage participant records. This ensures that employees and vanpool operators receive the appropriate commuting benefits while promoting fair and efficient use of parking and other transportation resources.

CATEGORIES OF INDIVIDUALS COVERED BY THE SYSTEM:

Federal employees who receive transit or bicycle subsidies, who hold parking permits, or are members of carpools and vanpools; applicants for ridesharing information; recipients of match letters for carpooling; applicants for transit subsidies issued by DOT; vanpool operators.

CATEGORIES OF RECORDS IN THE SYSTEM:

Records pertaining to recipients of bicycle or transit subsidies; holders of parking permits, participants in carpools or vanpools; or applicants for ridesharing information includes the following information. Records include the following information: full name, employee identification number (or some other identification number used by a federal agency as an employee's identification number), employer name, employer's address, home address, business telephone number, employee's work email address, transit provider name, address, mode of transportation used for commute, location employee commutes to/from, number of days employee commutes per month, subsidy amount, system identifier (number randomly generated by DOT's system and assigned to files), transit card number, parking permit number, license plate number and issuing state, parking permit holder payment status (paid/unpaid), payment information, bicycle benefit recipients, itemized lists of expenditures eligible for bicycle benefit. The following information may be collected and maintained about vanpool operators: full name, business address, first and last name of individuals who use the vanpool.

RECORD SOURCE CATEGORIES:

Records are obtained from applications submitted by individuals for parking permits, carpool and vanpool membership, ridesharing information, and fare subsidies; from notifications from other Federal agencies in the program; and from periodic certifications or recertifications and reports regarding fare subsidies.

ROUTINE USES OF RECORDS MAINTAINED IN THE SYSTEM, INCLUDING CATEGORIES OF USERS AND PURPOSES OF SUCH USES:

In addition to those disclosures generally permitted under 5 U.S.C. 552a(b) of the Privacy Act, all or portion of the records or information contained in this system may be disclosed outside of DOT as a routine use pursuant to 5 U.S.C. 552a(b)(3) as follows:

System Specific Routine Uses:

1. To the Federal agency for whom DOT administers a transit benefit program, for purposes of verifying that agency's employee's participation in the program, and auditing and verifying disbursements.

2. To the operators of transit systems or vanpools for purposes of activating, distributing, and verifying benefits.

3. To the entity that manages the parking facility at the DOT Headquarters in Southeast Washington, DC, delinquent daily parking fees for purpose of ensuring eligibility of daily parkers.

4. To the Department of Treasury's approved Financial Agent for purposes of distributing transit benefits.

5. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

DEPARTMENT ROUTINE USES:

6. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

7a. Routine Use for Disclosure for Use in Litigation. It shall be a routine use of the records in this system of records to disclose them to the Department of Justice or other Federal agency conducting litigation when—(a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

7b. Routine Use for Agency Disclosure in Other Proceedings. It shall be a routine use of records in this system to disclose them in proceedings before any court or adjudicative or administrative body before which DOT or any agency thereof, appears, when—(a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

8. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

9. One or more records from a system of records may be disclosed routinely to the National Archives and Records Administration (NARA) in records management inspections being conducted under the authority of 44 U.S.C. 2904 and 2906.

10a. To appropriate agencies, entities, and persons when (1) DOT suspects or has confirmed that there has been a breach of the system of records; (2) DOT has determined that as a result of the suspected or confirmed breach there is a risk of harm to individuals, DOT (including its information systems, programs, and operations), the Federal (3) the disclosure made to such agencies, entities, and persons is reasonably necessary to assist in connection with DOT's efforts to respond to the suspected or confirmed breach or to prevent, minimize, or remedy such harm.

10b. DOT may disclose records from this system, as a routine use, to another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

11. DOT may disclose records from this system, as a routine use, to the Office of Government Information Services for the purpose of (a) resolving disputes between FOIA requesters and Federal agencies and (b) reviewing agencies' policies, procedures, and compliance in order to recommend policy changes to Congress and the President.

12. DOT may disclose records from the system, as a routine use, to contractors and their agents, experts, consultants, and others performing or working on a contract, service, cooperative agreement, or other assignment for DOT, when necessary to accomplish an agency function related to this system of records.

13. DOT may disclose records from this system, as a routine use, to an agency, organization, or individual for the purpose of performing audit or oversight operations related to this system of records, but only such records as are necessary and relevant to the audit or oversight activity. This routine use does not apply to intra-agency sharing authorized under Section (b)(1) of the Privacy Act.

14. DOT may disclose from this system, as a routine use, records consisting of, or relating to, terrorism information (6 U.S.C. 485(a)(5)), homeland security information (6 U.S.C. 482(f)(1)), or Law enforcement information (Guideline 2 Report attached to White House Memorandum, “Information Sharing Environment”, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

Records in the system are stored electronically on a contractor-maintained cloud storage service.

POLICIES AND PRACTICES FOR RETRIEVAL OF RECORDS:

Records can be retrieved by employer agency name, participant name, or any other identifier in the system.

POLICIES AND PRACTICES FOR RETENTION AND DISPOSAL OF RECORDS:

Records in the system are maintained in accordance with the following NARA records schedule and retention: GRS 1.1, Financial Management and Reporting Records, Item 010 (DAA-GRS-2013-0003-0001). Financial transaction records related to procuring goods and services, paying bills, collecting debts, and accounting. Parking records. Parking records including parking payment records. Temporary. Destroy 6 years after final payment or cancellation. GRS 2.4, Employees Compensation and Benefits Records: DAA-GRS-2016-0015-0018, item 131, Transportation subsidy program individual case files. Temporary. Destroy 2 years after employee participation concludes, but longer retention is authorized if required for business use.

ADMINISTRATIVE, TECHNICAL, AND PHYSICAL SAFEGUARDS:

Records in this system are safeguarded in accordance with applicable rules and policies, including all applicable DOT automated systems security and access policies. Strict controls have been imposed to minimize the risk of compromising the information that is being stored. Access to records in this system is limited to those individuals who have a need to know the information for the performance of their official duties and who have appropriate clearances or permissions.

RECORD ACCESS PROCEDURES:

Individuals seeking access to records about themselves should address inquires to the System Manager at the address identified as “System Manager,” and address above. Individuals should include the following information in their request in writing: Name and title of the system of records from which you are requesting the search; name of individual; mailing address; phone number or email address; and description of the records sought, and if possible, location of records.

Individuals wanting access to their records or contest information about them that is contained in this system should make their requests in writing, detailing the reasons for and why the records should be corrected. Privacy Act requests for records covered by system of records notices not published by the Department will be coordinated with the appropriate Federal agency.

CONTESTING RECORD PROCEDURES:

See “Records Access procedure.”

NOTIFICATION PROCEDURES:

See “Records Access procedure.”

EXEMPTIONS PROMULGATED FOR THE SYSTEM:

None.

HISTORY:

Full notice of this system of records, DOT/ALL 8, Parking and Transit Benefits, were published in the Federal Register on October 23, 2015, 80 FR 6443 and April 11, 2000, 65 FR 19482.

Issued in Washington, DC.
Karyn Gorman,
Chief Privacy Officer.

[FR Doc. 2026-00936 Filed 1-16-26; 8:45 am]

BILLING CODE 4910-9X-P